DEPARTMENT OF ENERGY

Federal Energy Regulatory Commission

Combined Notice of Filings #1

May 18, 2010.

Take notice that the Commission received the following electric rate filings:

Docket Numbers: ER06-456-023; ER06-954-019; ER06-1271-018; ER07-424-014; EL07-57-009; ER06-880-018; ER07-1186-003; ER08-229-003; ER08-1065-003; ER09-497-004; ER10-268-003.

Applicants: PJM Interconnection, L.L.C.

Description: Motion of PJM Interconnection, LLC.

Filed Date: 05/14/2010.

Accession Number: 20100514-5163.

Comment Date: 5 p.m. Eastern Time on Friday, June 4, 2010.

Docket Numbers: ER10-745-003.

Applicants: PacifiCorp.

Description: PacifiCorp submits revision to Attachment C of its Open Access Transmission Tariff.

Filed Date: 05/17/2010.

Accession Number: 20100518-0209.

Comment Date: 5 p.m. Eastern Time on Monday, June 7, 2010.

Docket Numbers: ER10-805-000.

Applicants: Southern California Edison Company.

Description: Southern California Edison Company's Response to the Commission's Request for Additional Information.

Filed Date: 05/14/2010.

Accession Number: 20100514-5081.

Comment Date: 5 p.m. Eastern Time on Friday, May 28, 2010.

Docket Numbers: ER10-1129-001; ER10-1130-001; ER10-1131-001.

Applicants: U.S. Gas & Electric, Inc.; Energy Services Providers, Inc; ESPI New England, Inc.

Description: Amendment to Application of US Gas & Electric, Inc et al. (Applicants) for market-based rate authority and granting of Waivers and Blanket Authorizations.

Filed Date: 05/14/2010.

Accession Number: 20100514-0224.

Comment Date: 5 p.m. Eastern Time on Monday, May 24, 2010.

Docket Numbers: ER10-1223-001.

Applicants: DTE Energy Trading, Inc.

Description: DTE Energy Trading, Inc. submits tariff filing per 35: DTE Energy Trading—Compliance Filing to be effective 5/14/2010.

Filed Date: 05/18/2010.

Accession Number: 20100518-5066.

Comment Date: 5 p.m. Eastern Time on Tuesday, June 8, 2010.

Docket Numbers: ER10-1261-000.

Applicants: E. ON U.S. LLC.

Description: E. ON U.S. LLC submits unexecuted interconnection agreement with the City Utility Commission of the City of Owensboro.

Filed Date: 05/14/2010.

Accession Number: 20100517-0208.

Comment Date: 5 p.m. Eastern Time on Friday, June 4, 2010.

Docket Numbers: ER10-1265-000.

Applicants: Virginia Electric & Power Company.

Description: Virginia Electric & Power Company submit notice of cancellation and a revised service agreement to cancel a Standard Large Generator Interconnection Agreement with Dominion et al.

Filed Date: 05/17/2010.

Accession Number: 20100518-0201.

Comment Date: 5 p.m. Eastern Time on Monday, June 7, 2010.

Docket Numbers: ER10-1266-000.

Applicants: ISO New England Inc.

Description: ISO New England Inc et al. submits executed non conforming Standard Large Generator Interconnection Agreement et al., effective 5/31/10 under ER10-1266.

Filed Date: 05/17/2010.

Accession Number: 20100518-0208.

Comment Date: 5 p.m. Eastern Time on Monday, June 7, 2010.

Docket Numbers: ER10-1267-000.

Applicants: PacifiCorp.

Description: PacifiCorp submits Large Generator Interconnection Facilities Maintenance Agreement, designated as Service Agreement No 647.

Filed Date: 05/17/2010.

Accession Number: 20100518-0207.

Comment Date: 5 p.m. Eastern Time on Monday, June 7, 2010.

Docket Numbers: ER10-1270-000; ER10-1271-000.

Applicants: Florida Power & Light Company.

Description: Florida Power & Light Company submits certain revisions and amendments to FPL Rate Schedule FERC 312, which is the Short-Term Agreement for Partial Electric Requirements Service etc.

Filed Date: 05/17/2010.

Accession Number: 20100518-0212.

Comment Date: 5 p.m. Eastern Time on Monday, June 7, 2010.

Docket Numbers: ER10-1272-000.

Applicants: Orange and Rockland Utilities, Inc.

Description: Orange and Rockland Utilities, Inc. submits tariff filing per 35.12: Baseline Filing of Orange and Rockland OATT to be effective 5/18/2010 under ER10-1272 Filing Type: 370

Filed Date: 05/18/2010.

Accession Number: 20100518-5086.

Comment Date: 5 p.m. Eastern Time on Tuesday, June 8, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-12613 Filed 5-25-10; 8:45 am]

BILLING CODE 6717-01-P